DEPARTMENT OF HEALTH AND HUMAN SERVICES

Health Information Technology Advisory Committee; Call for Applications

AGENCY: Office of the National Coordinator for Health Information Technology, HHS.

ACTION: Call for applications.

SUMMARY: The Office of the National Coordinator for Health Information Technology (ONC) is seeking applications to the Health Information Technology Advisory Committee.

SUPPLEMENTARY INFORMATION:

Name of Committee: Health Information Technology Advisory Committee.

General Function of the Committees: The Health Information Technology Advisory Committee (HITAC) shall make recommendations to the National Coordinator on a policy framework to advance an interoperable health information technology infrastructure. The Health Information Technology Advisory Committee shall recommend to the National Coordinator a policy framework for adoption by the Secretary consistent with the strategic plan under section 3001(c)(3) for advancing the following target areas (described in more detail in the Description of Duties section): (1) Achieving a health information technology infrastructure that allows for the electronic access, exchange, and use of health information; (2) the promotion and protection of privacy and security of health information in health information technology; (3) the facilitation of secure access by an individual to such individual's protected health information; and (4) any other target area that the HITAC identifies as an appropriate target area to be considered. Such policy framework shall seek to prioritize achieving advancements in these target areas and may incorporate policy recommendations made by the HIT Policy Committee, as in existence before the date of the enactment of the 21st Century Cures Act.

Date and Time: Applications must be received by 12:00 p.m. on Friday, August 4, 2017.

Contact Person: Michelle Consolazio, email: michelle.consolazio @hhs.gov.

Background: Section 3002 of the 21st Century Cures Act (Pub. L. 114-255) establishes the Health Information Technology Advisory Committee (referred to as the “HITAC”). Once established, the Health Information Technology Advisory Committee will be governed by the provisions of the Federal Advisory Committee Act (FACA) (Pub. L. 92-463), as amended, (5 U.S.C. App.), which sets forth standards for the formation and use of federal advisory committees. HHS is seeking applications for two members ofthe HITAC; one of whom shall be appointed to be a public health official representative. Members of the HITAC shall at least reflect providers, ancillary healthcare workers, consumers, purchasers, health plans, technology vendors, researchers, relevant Federal agencies, and individuals with technical expertise on health care quality, privacy and security, and on the electronic exchange and use of health information.

Members will be selected in order to achieve a balanced representation of viewpoints, areas of experience, subject matter expertise, and representation of the health care landscape. Terms will be three (3) years from the appointment date. Members serve without pay, but will be provided per diem and travel costs for committee services.

Submitting Applications: Applications should be submitted electronically through the application database on the HealthiT.gov Web site at: http://U www.healthit.gov/facas/faca-workgroup-membership-application. An application package must include: A short bio, a current resume or CV including contact information, and two letters of support.

Dated: July 10, 2017.
Michelle Consolazio,
Office of Policy, Office of the National Coordinator for Health Information Technology.

[FR Doc. 2017-15565 Filed 7-24-17; 8:45 am]

BILLING CODE 4150-45-P